DEPARTMENT OF THE INTERIOR

Bureau of Indian Affairs

Proposed Renewal of Loan Guaranty, Insurance, and Interest Subsidy, Request for Comments

AGENCY: Bureau of Indian Affairs, Interior.

ACTION: Notice of renewal of information collection.

SUMMARY: The Bureau of Indian Affairs (BIA) is seeking comments on the collection of information necessary for utilization of the Loan Guaranty, Insurance, and Interest Subsidy Program. This is necessary to continue the use of forms for this program approved by the Office of Management and Budget under the Paperwork Reduction Act of 1995. The public will have the opportunity to comment on the time and expense required by these forms to access the program.

DATES: Submit comments on or before August 11, 2003.

ADDRESSES: Send comments to Ray Brown, Acting Director, Office of Economic Development, Bureau of Indian Affairs, Department of the Interior, 1849 C St., NW., Mail Stop 2412-MIB, Washington, DC 20240; or hand deliver them to Room 2412 at the above address. We cannot use e-mail but you may comment by telefacsimile at (202) 208-7419.

FOR FURTHER INFORMATION CONTACT: David B. Johnson, Division of Indian Affairs, Office of the Solicitor, (202) 208-340.

SUPPLEMENTARY INFORMATION: The Loan Guaranty, Insurance, and Interest Subsidy Program (Program) was established in the Act of April 12, 1974, as amended, 88 Stat. 79, 25 U.S.C. 1481 et seq. and 25 U.S.C. 1511 et seq. The Program has existed since 1974 and the regulations implementing it have existed since 1975, with significant revision in 2001. It is necessary to collect information from users of this program in order to determine eligibility and credit worthiness of respondents.

Request for Comments: The Bureau of Indian Affairs requests your comments on this collection concerning:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as through the use of automated collection techniques or other forms of information technology.

Please note that an agency may not sponsor or request, and an individual need not respond to, a collection of information unless it has a valid OMB Control Number.

It is our policy to make all comments available to the public for review at the location listed in the ADDRESSES section, 9 a.m. to 4 p.m. EST, Monday through Friday except for legal holidays. If you wish to have your name and/or address withheld, you must state this prominently at the beginning of your comments. We will honor your request according to the requirements of the law. All comments from organizations or representatives will be available for review. We may withhold comments from review for other reasons.

OMB Control Number: 1076-0020.

Type of review: Renewal.

Title: Loan Guaranty, Insurance, and Interest Subsidy, 25 CFR part 103.

Brief Description of Collection: The purpose of the Loan Guaranty, Insurance, and Interest Subsidy Program, 25 U.S.C. 1481 et seq. and 25 U.S.C. 1511 et seq., is to encourage private lending to individual Indians and organizations of Indians, by providing lenders with loan guaranties or loan insurance to reduce their potential risk. Lenders, borrowers, and the loan purpose all must qualify under Program terms. In addition, the Secretary of the Interior must be satisfied that there is a reasonable prospect that the loan will be repaid. BIA collects information under the proposed regulations to assure compliance with Program requirements.

Based upon historical records, BIA anticipates approximately 64 applications for loan guaranties each year. Although there have never been any loan insurance applications, apparent need suggests that BIA will receive approximately 20 additional loan insurance applications or notices of loan insurance per year. Of the combined 84 applications/notices, BIA expects that it will guarantee or insure approximately 64 new loans each year, of which approximately 45 will receive interest subsidy.

In all, BIA estimates the total annual Program compliance burden to range from approximately 4 to 12 hours per loan, with the average loan causing a burden of approximately 6.18 hours. Most compliance burdens fall below this average. BIA assumes the average hourly cost per respondent to be $20.00:

Respondents: Commercial banks.

Number of Respondents: 84.

Number of Responses Annually: 852.

Estimated Time per Respondent: 6 hours.

Frequency of Response: As needed.

Total Annual Burden to Respondents: 519.

Total Annual Cost to Respondents: $10,382.00.

Dated: May 26, 2003.
Aurene M. Martin,
Assistant Secretary—Indian Affairs.

[FR Doc. 03-14531 Filed 6-9-03; 8:45 am]

BILLING CODE 4310-XN-P